DEPARTMENT OF STATE

[Public Notice 9016]

In the Matter of the Designation of Denis Cuspert, Also Known as Deso Dogg, also Known as Denis Mamadou Cuspert, Also Known as Abu Mamadou, Also Known as Abu Talha the German, Also Known as Abu Maleeq, Also Known as Abu Maliq, Also Known as Abu Malik, Also Known as Abu Maleeq al-Mujaheed, Also Known as Abu Talhah al Almani, as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Denis Cuspert, also known as Denis Mamadou Cuspert, also known as Abu Mamadou, also known as Abu Talha the German, also known as Abu Maleeq, also known as Abu Maliq, also known as Abu Malik, also known as Abu Maleeq al-Mujaheed, also known as Abu Taha al Almani, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: January 9, 2015.
John F. Kerry,
Secretary of State.

[FR Doc. 2015-01589 Filed 1-27-15; 8:45 am]

BILLING CODE 4710-AD-P